DEPARTMENT OF HEALTH AND HUMAN SERVICES

Indian Health Service

Statement of Mission, Organization, Functions and Delegation of Authority

Part G, of the Statement of Organization, Functions and Delegations of Authority of the Department of Health and Human Services, as amended at 60 FR 56606, November 9, 1995, and most recently amended at 61 FR 67048, December 19, 1996, is amended to reflect the establishment of the Division of Information Systems and Technology (GFNAE) and the abolishment of the Information Technology Support Branch (GFNAC1) within the Tucson Area Indian Health Service (TAIHS). The changes are as follows:

Section GFN-00, Tucson Area Indian Health Service—Mission

The Tucson Area IHS provides a comprehensive health services delivery system for American Indians and Alaska Natives (AI/AN) with opportunity for maximum tribal involvement in developing and managing programs to meet their health needs. The goal of the Tucson Area IHS is to raise the health level of the AI/AN people to the highest possible level.

Section GFN-10, Functions. Office of the Director (GFNA)

(1) Plans, develops, and directs the Area program within the framework of the Indian Health Service (IHS) policy and in pursuit of the mission; (2) delivers and ensures the delivery of high quality health services, allowing for alternative methods and techniques of health services management and delivery with maximum Tribal participation; (3) coordinates and advocates for IHS activities and resources internally and externally with those of other Government and nongovernmental programs; (4) promotes optimum utilization of health care services through management and delivery of services to American Indians and Alaska Natives; (5) applies the principles of Indian Preference and Equal Employment Opportunity (EEO); (6) provides liaison, consultative and administrative service to officials of Tribes, inter-tribal and urban Indian organizations related to the provision of health and health related services, and supports the implementation of Self-Governance and Self-Determination; (7) assures the provision of access to the Internet and World Wide Web; as well as, basic automated information and telecommunications systems to facilitate effective program and health care administration; (8) supports the development of individual and Tribal capacities to participate in Indian health programs through means and modalities that they deem appropriate to their health needs and circumstances; and (9) participates with Indian tribes and other Indian community groups in developing goals and objectives for the Tucson Area IHS.

Division of Administration and Management (GFNAB)

(1) Plans, directs, coordinates and evaluates Area administrative and management services; (2) promotes, evaluates and monitors Area internal control activities; (3) provides for a sound financial management program including budget, general accounting, and accounts control; (4) provides overall management of supply program, office services and personal and real property, insuring proper documentation and reporting of all relative transactions; (5) plans, coordinates, administers, directs and evaluates the Area Civil Service and Commissioned Corps personnel management program; (6) provides human resource management support to Area office and Service Unit managers including recruitment, placement, position management, position classification, training, labor relations and employee relations, employee services, and public relations; (7) assures the full application of the Indian Preference policy in all personnel practices; (8) provides direction for acquisition management including monitoring of tribal/urban Indian, commercial and small purchase contracts.

Financial Management Branch (GFNAB1)

(1) Interprets policies, guidelines, manual issuances, OMB Circulars, and other directives or instructions issued by IHS, PHS, DHHS, OMB, Treasury, GAO and Congress relating to the fiscal management of resources; (2) provides direction for the organization, coordination and execution of all budget and financial operations; (3) provides technical guidance to Service Unit administration staff; (4) provides technical assistance and guidance to tribal organizations; (5) monitors funds control for the operation of the Service Unit, program offices, and P.L. 93-638 contracted facilities; and (6) advises executive staff on status of funds and recommends action to maintain utilization of resources and to obtain maximum health care services.

Acquisition Management Branch (GFNAB2)

(1) Plans, organizes, and manages the acquisition services for the Area and makes recommendations on acquisition policies and procedures; (2) provides guidance to field personnel on the interpretation of acquisition laws, regulations, procedures and policies; (3) plans, develops, and coordinates all Area tribal contracts and grant awards including negotiation, administration and close-outs; (4) executes and administers Buy Indian contracts; (5) executes and administers construction contracts; and (6) executes and administers purchase orders for small procurement.

Human Resources Management Branch (GFNAB3)

(1) Provides overall human resource management support to Area Office and Service Unit managers; (2) maintains position classification and wage administration programs for the Area; (3) provides a centralized employee development program that includes planning, administering, supervising, and evaluating; (4) directs employee relations/services programs for the entire Area; (5) maintains and processes all Area Integrated Management of Personnel Administration through Computer Technology (IMPACT), Terminal Data Control Systems; (6) provides overall recruitment and employment information; (7) provides technical assistance in personnel management to American Indian organizations; (8) manages the IHS Indian Health Care Improvement Act (P.L. 94-437) Scholarship Program and Management Development Program coordination; (9) ensures that Indian Preference statutes are adhered to and that all legal and regulatory requirements are properly applied; and (10) provides liaison with IHS Field Support Personnel.

Division of Public Health Services (GFNAC)

(1) Provides leadership and guidance to IHS direct, tribal, and urban public health programs on IHS goals, objectives, policies, standards, and priorities; (2) coordinates and evaluates professional standards and reporting requirements, e.g., Health Care Finance Administration (HCFA), Joint Commission on Accreditation of Health Care Organizations (JCAHO), and Government Performance and Results Act (GPRA), for service delivery in the direct care and contract health care programs; (3) assures the provision of technical assistance and consultation to Service Units and tribal governments concerning health service delivery, epidemiological investigation and surveillance, the interpretation and application of health and safety standards, as well as, third-party reimbursements, contract health, and other service agreements; (4) collaborates with Tribes, Departmental entities, other Federal and State agencies, and voluntary professional health organizations to identify, develop, and apply new approaches for prevention programs and for the delivery and financing of health care; and (5) provides health services and facilities planning, evaluation, and statistical functions for the Area.

Division of Environmental Health and Engineering (GFNAD)

(1) Provides a broad range of environmental health and engineering services directed at the prevention and reduction of disease and injuries among the Indian population in the Tucson Area; (2) directs, plans, implements, monitors and evaluates environmental health service activities to eliminate or reduce health hazards in homes and communities; (3) directs, plans, and implements engineering activities to design and construct water, sewer and solid waste systems for Indian homes and communities, provides training and technical assistance for the operation and maintenance of sanitation facilities; (4) administers the management, maintenance and repair of IHS health care facilities; (5) provides biomedical engineering support to the IHS health care facilities; (6) manages the operation of the administrative activities that include the budget, personnel, acquisition and property within the office; and (7) serves as the principal advisor to the Area for all environmental health issues affecting the Tribes and IHS employees.

Division of Information Systems and Technology (GFNAE)

(1) Provides leadership and guidance in the area of information technology to tribal, and urban public health programs, Area Office and Service Unit managers; (2) plans, coordinates and manages automated information designed to facilitate effective program and health care management; (3) plans, procures, supports and evaluates telecommunications systems for program management and medical operation; (4) supports access to the Internet and World Wide Web; (5) provides advice on the installation and maintenance services to the Area managers and tribal and urban health programs on operational automated information systems used in the IHS, i.e., RPMS, CHSMIS, CDMIS, etc. for improved personal productivity and health services data collection; (6) provides reports and information on a priority basis and gathers, consolidates and transmits automated RPMS data to central processing centers; and (7) serves as the focal point for clearance of requests to purchase information systems, hardware and software for the Tucson Area IHS.

Sells Service Unit (GFNE)

Pascua Yaqui Service Unit (GFNG)

(1) Plans, develops, and directs health programs within the framework of IHS policy and mission; (2) promotes activities to improve and maintain the health and welfare of the service population; (3) delivers quality health services within available resources; (4) coordinates Service Unit activities and resources with those of other governmental and non-governmental programs; (5) participates in the development and demonstration of alternative means and techniques of health services management and health care delivery, including the implementation and maintenance of automated information systems, telecommunication and business systems designed to facilitate effective program administration and health care management; (6) provides Indian tribes and other Indian community groups with optimal means of participating in Service Unit programs; and (7) encourages and supports the development of individual and tribal entities in the management of the Service Unit.

Section GFN-20, The Order of Succession to the Area Director

Director, Division of Administration and Management

Director, Division of Public Health Services

Director, Division of Information Systems and Technology

Director, Division of Environmental Health and Engineering

Section GFN-30, Tucson Area IHS—Delegations of Authority

All delegations and redelegations of authority made to officials in the Tucson Area Office that were in effect immediately prior to this reorganization, and that are consistent with this reorganization, shall continue in effect pending further redelegation.

This reorganization shall be effective on the date of signature.

Dated: February 14, 2000.
Michael H. Trujillo,
Director.

[FR Doc. 00-4096 Filed 2-18-00; 8:45 am]

BILLING CODE 4160-16-M